SURFACE TRANSPORTATION BOARD

[Docket No. FD 36359]

Norfolk Southern Railway Company—Temporary Trackage Rights Exemption—The Kansas City Southern Railway Company

Norfolk Southern Railway Company (NSR), a Class I rail carrier, has filed a verified notice of exemption under 49 CFR 1180.2(d)(8) for the acquisition of temporary overhead trackage rights by NSR over an approximately 156.3-mile rail line of The Kansas City Southern Railway Company (KCS) between Mexico, Mo. (KCS milepost 325.7), and Rock Creek Junction in Kansas City, Mo. (KCS milepost 482.0), pursuant to the terms of a written Temporary Trackage Rights Agreement dated October 8, 2019 (Agreement).¹

¹ A redacted copy of the Agreement is attached to the verified notice. An unredacted copy has been filed under seal along with a motion for protective order pursuant to 49 CFR. 1104.14. That motion is addressed in a separate decision.

NSR states that the purpose of the temporary trackage rights is to accommodate its emergency detour operations between Moberly, Mo., and Kansas City, on account of the inoperability of the Grand River Bridge in Brunswick, Mo., and thus permit continued rail service while operations over the bridge are being restored and until NSR is able to resume full operations. NSR states that the temporary trackage rights will expire no later than September 30, 2020.

NSR concurrently filed a petition for waiver of the 30-day period under 49 CFR 1180.4(g) to allow the proposed temporary trackage rights to become effective immediately. By decision served October 11, 2019, the Board granted NSR's request. As a result, this exemption is now effective.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

If the verified notice contains false or misleading information, the exemption is void ab initio. Petitions to revoke the exemption under 49 U.S.C. 10502(d) may be filed at any time. The filing of a petition to revoke will not automatically stay the effectiveness of the exemption.

All pleadings, referring to Docket No. FD 36359, must be filed with the Surface Transportation Board either via e-filing or in writing addressed to 395 E Street SW, Washington, DC 20423-0001. In addition, a copy of each pleading must be served on NSR's representative, Garrett D. Urban, Norfolk Southern Corporation, Three Commercial Place, Norfolk, VA 23510.

According to NSR, this action is categorically excluded from environmental review under 49 CFR 1105.6(c) and historic reporting under 49 CFR 1105.8(b)(3).

Board decisions and notices are available at www.stb.gov.

Decided: October 11, 2019.
By the Board, Allison C. Davis, Director, Office of Proceedings.
Raina Contee,
Clearance Clerk.

[FR Doc. 2019-22740 Filed 10-17-19; 8:45 am]

BILLING CODE 4915-01-P